DEPARTMENT OF HOUSING AND URBAN DEVELOPMENT

24 CFR Part 100

[Docket No. FR-6111-C-04]

RIN 2529-AA98

HUD's Implementation of the Fair Housing Act's Disparate Impact Standard; Correction

AGENCY: Office of the Assistant Secretary for Fair Housing and Equal Opportunity, HUD.

ACTION: Final rule; correction.

SUMMARY: On September 24, 2020, HUD published a final rule amending HUD's disparate impact standard regulation. This document corrects an incorrect amendatory instruction.

DATES: Effective: October 26, 2020.

FOR FURTHER INFORMATION CONTACT: With respect to this technical correction, contact Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Relay at 800-877-8339 (this is a toll-free number).

SUPPLEMENTARY INFORMATION: On September 24, 2020 (85 FR 60288), HUD published a final rule that amended HUD's disparate impact standard regulation and included minor revisions to § 100.70. In the revision of § 100.70, HUD's amendatory instructions in the final rule included an incorrect instruction to add a new paragraph (d)(5). HUD intended, consistent with the proposed rule (84 FR 42854), to revise the already-existing paragraph (d)(5). This document corrects this instruction.

Correction

Accordingly, FR Rule Doc. 2020-19887, HUD's Implementation of the Fair Housing Act's Disparate Impact Standard (FR-6111-F-03), published in the Federal Register on September 24, 2020 (85 FR 60288) is corrected as follows:

On page 60332, in the last full paragraph of the second column, in amendment 3, the instruction “In § 100.70, add a new paragraph (d)(5) to read as follows:” is corrected to read “In § 100.70, revise paragraph (d)(5) to read as follows:”

Aaron Santa Anna,
Associate General Counsel for Legislation and Regulations.

[FR Doc. 2020-21634 Filed 10-8-20; 8:45 am]

BILLING CODE 4210-67-P